DEPARTMENT OF ENERGY

Federal Energy Regulatory Commission

[Docket No. EC02-106-000, et al.]

Vivendi Universal, S.A., et al.; Electric Rate and Corporate Regulation Filings

August 27, 2002.

The following filings have been made with the Commission. The filings are listed in ascending order within each docket classification.

1. Vivendi Universal, S.A., Energies USA, S.A., Apollo Energy, LLC, Sithe Energies, Inc. and Individual Stockholders

[Docket No. EC02-106-000]

Take notice that on August 20, 2002, Vivendi Universal, S.A. (Vivendi), Energies USA, S.A. (EUSA), Apollo Energy, LLC (Apollo Energy), Sithe Energies, Inc. (Sithe), and Individual Stockholders (collectively, Applicants), filed with the Federal Energy Regulatory Commission (Commission) an application pursuant to section 203 of the Federal Power Act for authorization of a disposition of jurisdictional facilities whereby Vivendi, EUSA and Individual Stockholders will sell their ownership interests in Sithe to Apollo Energy for cash. Sithe states that it is engaged primarily, through various subsidiaries, in the development and operation of non-utility generation facilities. Apollo Energy was created for the purpose of acquiring the interests in Sithe and has not control over electric generation or transmission facilities. Applicants state that the transaction will have no adverse effect on competition, rates or regulation.

Comment Date: September 20, 2002.

2. EWO Marketing L.P. Constellation Power Source, Inc.

[Docket No. EC02-107-000]

Take notice that on August 19, 2002, EWO Marketing L.P. (EWOM) and Constellation Power Source, Inc. (CPS) tendered for filing an application requesting all necessary authorizations under Section 203 of the Federal Power Act for EWOM to transfer to CPS its interest in a long-term power supply agreement with Wayne White Counties Electric Cooperative, Inc. Copies of this filing have been served on the Arkansas Public Service Commission, the Louisiana Public Service Commission, the City Council of New Orleans, the Mississippi Public Service Commission, and the Texas Public Utility Commission.

Comment Date: September 9, 2002.

3. PJM Interconnection, L.L.C.

[Docket No. ER02-597-001]

Take notice that on August 22, 2002, PJM Interconnection, L.L.C. (PJM) PJM Interconnection, L.L.C. (PJM), in compliance with paragraph 3 of the Commission's July 1, 2002 order in this proceeding, 100 FERC ¶61,011 (“July 1 Order”) submitted a refund report.

PJM states that copies of this filing have been served on all parties.

Comment Date: September 12, 2002.

4. Ameren Services Company

[Docket No. ER02-930-002]

Take notice that on August 23, 2002, Ameren Services Company (ASC) tendered for filing a Network Integration Transmission Service Agreement and Network Operating Agreement between ASC and City of Farmington, Missouri. ASC asserts that the purpose of the Agreement is to replace the unexecuted Agreements in Docket No. ER 02-930-000 with the executed Agreements.

Comment Date: September 13, 2002.

5. Southern California Edison Company

[Docket No. ER02-1952-001]

Take notice that on August 23, 2002, Southern California Edison Company (SCE) tendered for filing with the Federal Energy Regulatory Commission (Commission) an amendment to the filing made on May 31, 2002, in Docket No. ER02-1952-000. In that filing, SCE filed an unexecuted Service Agreement for Wholesale Distribution Service (Service Agreement) under SCE's Wholesale Distribution Access Tariff (Tariff), an unexecuted Interconnection Facilities Agreement (Interconnection Agreement), and an unexecuted Reliability Management System Agreement (RMS Agreement) between SCE and Berry Petroleum Company (BPC).

This amended filing reflects SCE's and BPC's resolution of issues between them and that the agreements have been executed.

Copies of this filing were served upon the Public Utilities Commission of the State of California and BPC.

Comment Date: September 13, 2002.

6. Niagara Mohawk Power Corporation

[Docket No. ER02-2494-000]

Take notice that on August 23, 2002, Niagara Mohawk Power Corporation (Niagara Mohawk) tendered for acceptance an amendment to the Interconnection Agreement for Nine Mile Point Unit 2 located in Scriba, Oswega County, New York (the NMP-2 ICA). The NMP-2 ICA is designated Service Agreement No. 309 of the New York Independent System Operator (NYISO) Open Access Transmission Tariff (OATT). This is the first amendment to the NMP-2 ICA. In general, the amendment adds a new section to the NMP-2 ICA and replaces schedules A, B and D of the agreement with new schedules A, B and D. The new section concerns rights and obligations related to an Energy Management System (EMS) contingency alarm. Schedule A is a diagram describing the interconnection of Nine Mile Point Unit 2. Schedules B and D are lists of equipment at the facilities related to the NMP-2 ICA. The Amendment is fully executed by all the parties to the NMP-2 ICA and it is the result of arm's-length negotiations between the parties.

Niagara Mohawk states that this filing has been served on the persons listed in the service list for Docket No. ER01-1986-000.

Comment Date: September 13, 2002.

7. Niagara Mohawk Power Corporation

[Docket No. ER02-2495-000]

Take notice that on August 23, 2002, Niagara Mohawk Power Corporation (Niagara Mohawk) tendered for acceptance an amendment to the Interconnection Agreement for Nine Mile Point Unit 1 located in Scriba, Oswega County, New York (the NMP-1 ICA). The NMP-1 ICA is designated as Service Agreement No. 308 of the New York Independent System Operator (NYISO) Open Access Transmission Tariff (OATT). This is the first amendment to the NMP-1 ICA. In general, the amendment adds a new section to the NMP-1 ICA and replaces schedules B and D of the agreement with new schedules B and D. The new section concerns rights and obligations related to an Energy Management System (EMS) contingency alarm. Schedules B and D are lists of equipment at the facilities related to the NMP-1 ICA. The Amendment is fully executed by all the parties to the NMP-1 ICA and it is the result of arm's-length negotiations between the parties.

Niagara Mohawk states that this filing has been served on the persons listed in the service list for Docket No. ER01-1986-000.

Comment Date: September 13, 2002.

8. Southern California Edison Company

[Docket No. ER02-2496-000]

Take notice, that on August 26, 2002, Southern California Edison Company (SCE) tendered for filing a reduction in the rate for scheduling and dispatching services provided in 2002 as embodied in SCE's agreements with the following entities:

1. Arizona Electric Power Cooperative | 132
2. Arizona Public Service Company | 348
3. Imperial Irrigation District | 268
4. Metropolitan Water District of Southern California | 292
5. M-S-R Public Power Agency | 339
6. Pacific Gas and Electric Company | 256, 318

SCE requests that the revised rate for these services be made effective January 1, 2002. Copies of this filing were served upon the Public Utilities Commission of the State of California and each entity listed above.

Comment Date: September 16, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-22421 Filed 9-3-02; 8:45 am]

BILLING CODE 6717-01-P